MISSISSIPPI RIVER COMMISSION

Sunshine Act Meeting; Notice

Agency Holding the Meeting: Mississippi River Commission.

Time and Date: Begin at 1:30 p.m. and adjourn by 4:00 p.m., April 23, 2002.

Place: Mississippi River Commission Headquarters Building, 1400 Walnut Street, Vicksburg, MS.

Status: Open to the public for observation but not for participation.

Matter To Be Considered: The Commission will consider the Morganza, Louisiana, to the Gulf of Mexico Hurricane Protection Project Final Feasibility Report and Final Environmental Impact Statement.

Contact Person for More Information: Mr. Stephen Gambrell, telephone 601-634-5766.

Thomas A. Holden Jr.,
Colonel, Corps of Engineers, Secretary, Mississippi River Commission.

[FR Doc. 02-8656 Filed 4-5-02; 12:34 pm]

BILLING CODE 3710-GX-M